DEPARTMENT OF TRANSPORTATION

Federal Aviation Administration

Notice of Opportunity for Public Comment on Release of Federally Obligated Property at DeKalb Peachtree Airport, Atlanta, Georgia

AGENCY: Federal Aviation Administration (FAA), DOT.

ACTION: Notice.

SUMMARY: Notice is being given that the FAA is considering a request from DeKalb County to waive the requirement that a 28.879 acre parcel of federally obligated property, located at the DeKalb Preachtree Airport, be used for aeronautical purposes.

DATES: Comments must be received on or before June 18, 2014.

ADDRESSES: Comments on this notice may be mailed or delivered in triplicate to the FAA at the following address: Atlanta Airports District Office, Attn: Parks Preston, Program Manager, 1701 Columbia Ave., Suite 2-260, College Park, GA 30337-2747.

In addition, one copy of any comments submitted to the FAA must be mailed or delivered to M. J. Van Wie, Airport Director at the following address: 212 Administration Building, 2000 Airport Road, Atlanta, GA 30341.

FOR FURTHER INFORMATION CONTACT: Parks Preston, Program Manager, Atlanta Airports District Office, 1701 Columbia Ave., Campus Bldg., Suite 2-260, College Park, GA 30337, (404) 305-7149. The application may be reviewed in person at this same location.

SUPPLEMENTARY INFORMATION: Under the provisions of Title 49, U.S.C. 47153(c), the FAA is reviewing a request by DeKalb Couny to release 28.879 acres of federally obligated property at the DeKalb Peachtree Airport. The property will be released and sold with an avigation easement permanently attached to the property. The net proceeds from the sale of this property will be used for airport purposes. The proposed use of this property is compatible with airport operations.

Any person may inspect the request in person at the FAA office listed above under FOR FURTHER INFORMATION CONTACT. In addition, any person may, upon request, inspect the request, notice and other documents germane to the request in person at the DeKalb Peachtree Airport.

Issued in College Park, Georgia on May 6, 2014.
Larry F. Clark,
Manager, Atlanta Airports District Office, Southern Region.

[FR Doc. 2014-11106 Filed 5-16-14; 8:45 am]

BILLING CODE 4910-13-P